DEPARTMENT OF THE INTERIOR

Minerals Management Service

Request for Comments on the Draft Proposed 5-Year Outer Continental Shelf (OCS) Oil and Gas Leasing Program for 2010-2015 and Notice of Intent To Prepare an Environmental Impact Statement (EIS) for the Proposed 5-Year Program

AGENCY: Minerals Management Service, Interior.

ACTION: Request for Comments.

SUMMARY: The Minerals Management Service (MMS) requests comments on the Draft Proposed 5-year OCS Oil and Gas Leasing Program for 2010-2015 (DPP). This draft proposal is for a new oil and gas program to succeed the current program that is currently set to expire on June 30, 2012, and forms the basis for conducting the studies and analyses the Secretary will consider in making future decisions on what areas of the OCS to include in the program.

Section 18 of the OCS Lands Act (43 U.S.C. 1344) specifies a multi-step process of consultation and analysis that must be completed before the Secretary of the Interior may approve a new 5-year program. The required steps following this notice include the development of a proposed program, a proposed final program, and Secretarial approval. Pursuant to the National Environmental Policy Act (NEPA), the MMS also will prepare an EIS for the new 5-year program.

DATES: Please submit comments and information to the MMS no later than March 23, 2009.

Public Comment Procedure

The MMS will accept comments in one of two formats: By mail or our Internet commenting system. Please submit your comments using only one of these formats, and include full names and addresses. Comments submitted by other means may not be considered. We will not consider anonymous comments, and we will make available for inspection in their entirety all comments submitted by organizations and businesses or by individuals identifying themselves as representatives of organizations and businesses.

Our practice is to make comments, including the names and home addresses of respondents, available for public review. An individual commenter may ask that we withhold his or her name, home address, or both from the public record, and we will honor such a request to the extent allowable by law. If you submit comments and wish us to withhold such information, you must so state prominently at the beginning of your submission.

ADDRESSES: You may submit comments on the DPP by any of the following methods.

• Federal eRulemaking Portal: http://www.regulations.gov. Under the tab “More Search Options,” click “Advanced Docket Search,” then select “Minerals Management Service” from the agency drop-down menu, then click the submit button. In the Docket ID column, select MMS-2008-OMM-0045 to submit public comments and to view related materials available for this Notice. Information on using Regulations.gov, including instructions for accessing documents, submitting comments, and viewing the docket after the close of the comment period, is available through the site's “User Tips” link. The MMS will post all comments on the DPP.

• Mail or hand-carry comments to the Department of the Interior; Minerals Management Service; Attention: Leasing Division (LD); 381 Elden Street, MS-4010; Herndon, Virginia 20170-4817. Please reference “2010-2015 Oil and Gas Leasing in the Outer Continental Shelf,” in your comments and include your name and return address.

FOR FURTHER INFORMATION CONTACT: Renee Orr, 5-Year Program Manager, at (703) 787-1215.

SUPPLEMENTARY INFORMATION: The MMS requests comments from states, local governments, Native groups, tribes, the oil and gas industry, Federal agencies, environmental and other interest organizations, and all other interested parties to assist in the preparation of a 5-year draft proposed OCS oil and gas leasing program for 2010-2015 and the applicable EIS.

The draft proposed program (DPP) document may be downloaded off the MMS Web site at http://www.mms.gov. The document also is available as part of our electronic commenting system noted above. Hard copies will be made available by contacting the 5-Year Program Office at 703-787-1215.

Background

Section 18 of the OCS Lands Act requires the Secretary of the Interior to prepare and maintain a schedule of proposed OCS oil and gas lease sales determined to “best meet national energy needs for the 5-year period following its approval or reapproval.” This DPP is the first proposed schedule of OCS lease sales for the 2010-2015 timeframe. The areas identified as proposed program areas in this notice are ones that warrant further study and analysis based on oil and gas resource estimates and comments received in response to the Request for Information published in the Federal Register on August 1, 2008 (73 FR 45065). Inclusion of areas in the draft proposed lease sale schedule provides a basis for gathering information and conducting analyses to inform policy makers whether to include these areas for leasing consideration in the new 5-year program. Before the new 5-year program is approved and implemented, the MMS must accept and consider comments on the DPP and issue for public review a proposed program, a draft EIS, a proposed final program, and a final EIS. The MMS will also evaluate prospective alternative energy projects on the OCS during the period of 2010 to 2015. In order to produce the next 5-year planning document (the Proposed Program) MMS will consider the potential interaction between alternative energy projects and potential oil and natural gas leasing activities in the 2010-2015 5-Year Program.

Summary of the Draft Proposed Program

While the DPP includes a schedule of sales, the intent of this document and associated materials are to make clear that the Secretary is not recommending any particular areas be included in or excluded from the eventual final program. Rather, it is designed to gather information, allowing the process to move forward in a way that will allow the next Administration to design the program that best fits their assessment of how to balance energy needs and environmental risks and benefits.

In developing the DPP for 2010-2015, the MMS considered oil and gas leasing in the areas of the OCS that are included in the current 5-year program for 2007-2012 and additional areas off Alaska, Pacific coast, the Gulf of Mexico, and Atlantic coast. Some of these additional areas had been subject to annual congressional moratoria prohibiting oil and gas leasing. However, the moratoria expired on September 30, 2008. The DPP includes lease sales in offshore areas that have the highest oil and gas resource values and highest industry interest, as well as areas that are off the coasts of states that have expressed interest in learning more about potential energy exploration off their coasts. Forty-seven comments from oil and gas companies or associations nominated specific planning areas to be included in the new 5-Year program; some nominated all planning areas. The DPP was determined in the context of these comments, within the broader considerations of offshore energy, including alternative energy.

It is uncertain whether the final decision on the 5-Year Program will include as many areas as are included in DPP. Such decisions on the size, timing and location of sales will rest with the next Administration. This DPP provides the next Administration with the maximum flexibility and the maximum available information to make these important decisions. To that end, the following questions will need to be addressed regarding the areas of the OCS that may be made available for leasing:

• Should there be buffer zones (i.e., areas where certain activities are prohibited or restricted)? If so, how large should they be? What criteria should be used for setting them (e.g., visual impacts, infrastructure, etc.)? Should they be uniform in all new areas or vary by area according to issues of concern and/or technical constraints?

• Are there specific areas/subareas that should be excluded because they are particularly sensitive? Or because oil and gas activities may significantly conflict, in some areas, with other uses for which the area/subarea might be better suited (e.g., alternative energy)?

• This Administration views revenue sharing as a strong feature of state participation in coastal resource development. When the President modified the presidential withdrawal, he called upon Congress to address new legislation to enhance current revenue sharing laws, to allow broader state participation in fiscal planning related to future coastal resource development. Please provide your views on what policies and programs MMS, Congress and the Administration should consider relative to OCS revenue sharing.

• For those areas proposed for leasing consideration in the Southern California Planning Area, in deciding the next steps in the 5-year program preparation, should MMS include a requirement for mandatory unitization to potentially limit the number of structures in one or more of these areas?

The DPP also outlines prospective resources and the forecast for resources revenue. The MMS plans to complete an update of their 2006 National Assessment in early 2010 which should be available prior to publication of the Proposed Final Program. It is important to note that the DPP invites comment from coastal states on how OCS resources are developed off their shores. Despite efforts on the part of the Administration to urge Congress to take up revenue sharing legislation, Congress has not expanded revenue sharing outside of the four Gulf States. Other coastal states could share in revenues from leasing starting at the offshore state/Federal boundary, based upon the inherent revenue sharing built into section 8(g) of the OCS Lands Act. Congress could also establish a broader revenue sharing program. In the August 1, 2008 Request for Information, the governors of all 50 states were specifically asked for their comments, particularly on issues that are unique to each state, such as revenue sharing, in light of the energy situation and the President's July 14, 2008, action to remove the previous Presidential prohibition of certain OCS oil and gas leasing. The 2008 expiration of the congressional moratoria on OCS oil and gas leasing highlights new issues related to participation in revenue sharing.

Proposed Lease Sales for Consideration

The DPP proposes a total of 31 OCS lease sales in 12 areas (4 areas off Alaska, 3 areas off the Atlantic coast, 2 areas off the Pacific coast, and 3 areas in the Gulf of Mexico). Maps A and B show the areas proposed for leasing (DPP areas). Table A lists the location and timing of the proposed lease sales.

Table A—Draft Proposed Program for 2010-2015—Lease Sale Schedule
Sale Number | Area | Year
225 | Eastern Gulf of Mexico | 2010
215 | Western Gulf of Mexico | 2010
212 | Chukchi Sea | 2010
216 | Central Gulf of Mexico | 2011
218 | Western Gulf of Mexico | 2011
226 | Eastern Gulf of Mexico* | 2011
227 | Central Gulf of Mexico* | 2011
214 | North Aleutian Basin | 2011
219 | Cook Inlet | 2011
220 | Mid-Atlantic | 2011
222 | Central Gulf of Mexico | 2012
221 | Chukchi Sea | 2012
228 | Southern California | 2012
229 | Western Gulf of Mexico | 2012
230 | Mid-Atlantic | 2012
231 | Central Gulf of Mexico | 2013
217 | Beaufort Sea | 2013
232 | North Atlantic | 2013
233 | Western Gulf of Mexico | 2013
234 | Eastern Gulf of Mexico* | 2013
235 | Central Gulf of Mexico | 2014
236 | Northern California | 2014
237 | Chukchi Sea | 2014
238 | Western Gulf of Mexico | 2014
239 | North Aleutian Basin | 2014
240 | South Atlantic | 2014
241 | Central Gulf of Mexico | 2015
242 | Beaufort Sea | 2015
243 | Southern California | 2015
244 | Cook Inlet | 2015
245 | Mid-Atlantic | 2015
* Program area for lease sales would be expanded if Congress passes new legislation to lift any or all of the moratorium mandated by GOMESA.

Alaska Region

In the Alaska Region, the DPP schedules multiple lease sales in the Beaufort Sea, Chukchi Sea, and North Aleutian Basin Planning Areas. The multiple sales that are scheduled are consistent with the Governor of Alaska's recommendations and the state's administration of its offshore oil and gas program. The schedule for proposed sales in the Beaufort and Chukchi Seas are staggered by year with each other and timed to allow for possible new data from drilling between sales. The DPP expands the program areas to the entire planning areas for the Beaufort and Chukchi Seas, but the two subsistence deferrals in the Beaufort Sea and the 25-mile no-leasing buffer in the Chukchi Sea are continued from the current 5-year program.

Two proposed sales are scheduled in the North Aleutian Basin, a sale in 2011 in the current 5-year program and a second sale in 2014. The proposed program area is limited to that area included in the current program, commonly called the Sale 92 area.

The Cook Inlet Planning Area is included in the DPP as a special interest sale area. The proposed sales are scheduled for 2011 and 2015, but before MMS proceeds, it will issue a request for nominations and comments and will move forward only after consideration of the comments received in response to annual calls for information. If the comments from a call for information do not support consideration of a sale, the sale will be postponed and a request for nominations and comments will be issued again the following year, and so on through the 5-year schedule, until a sale is held or the schedule expires.

Pacific Region

The Pacific Region consists of 4 planning areas—Washington-Oregon, Northern California, Central California, and Southern California. The DPP schedules one sale in the Northern California Planning Area and two in the Southern California Planning Area. The proposed sales are in areas of known hydrocarbon potential—the Point Arena Basin in Northern California, and the Santa Maria, Santa Barbara/Ventura, and Oceanside/Capistrano Basins in Southern California. For each of these basins, the MMS also requests comments on including in the next steps in the 5-year program a requirement for mandatory unitization to potentially limit the number of structures in one or more of these areas. The proposed program area for the first sale in the Southern California Planning Area includes the Ecological Preserve offshore Santa Barbara for leasing but with access available only by directional drilling from structures outside the Preserve.

Gulf of Mexico Region

The DPP includes sales in all three areas of the Gulf of Mexico Region—Western, Central and Eastern. The Central and Western Gulf of Mexico Planning Areas remain the two areas of highest national resource potential and interest. The DPP would continue the customary practice of annual lease sales in these two areas, offering all the area that is not leased or under restriction. In addition, a second proposed sale is scheduled for 2011 in a small portion of the Central Gulf of Mexico Planning Area. This portion was recently made available with the lifting of restrictions.

Three sales are proposed for the Eastern Gulf of Mexico Planning Area, starting in 2010, offering all the area that is not leased or under restriction. The majority of the planning area is under restriction pursuant to GOMESA. The DPP area encompasses a portion of the planning area in the event that the restriction is lifted or modified during the 2010-2015 timeframe. The DPP includes a 75-mile wide no permanent surface structures zone, with no leasing eastward of that zone. This area has been configured to preliminarily address military multiple use issues. Dialogue with the Department of Defense will continue through the development of this 5-Year Program and throughout the pre-lease process. To the extent that GOMESA restrictions remain in effect during the duration of the program, the program area for these sales would include the area offered in Sale 224 in 2008 as mandated by GOMESA plus a small portion to the south of the Sale 224 area recently made available with the lifting of restrictions.

Atlantic OCS

There are four planning areas in the Atlantic OCS—North Atlantic, Mid-Atlantic, South Atlantic, and Straits of Florida. The DPP proposes one sale each in the North and South Atlantic Planning Areas and three sales in the Mid-Atlantic Planning Area. Sale 220, offshore Virginia is the first of the three sales. In the current program, the Sale 220 program area includes a 50-mile no leasing buffer. However, for the two subsequent sales, the DPP area for the entire Mid-Atlantic planning area contains no buffers at this time. The Department will continue to be responsive to the position of the Commonwealth of Virginia regarding a 50-mile buffer during subsequent steps in the 5-year program process and during the individual lease sale process. No sales are proposed for the Straits of Florida Planning Area.

Assurance of Fair Market Value

Section 18 of the OCS Lands Act requires receipt of fair market value from OCS oil and gas leases. The MMS expects to continue using a two-phase post-sale bid evaluation process that it has used since 1983 to meet the fair market value requirement. Further, the DPP provides that MMS may set minimum bid levels, rental rates, and royalty rates by individual lease sale based on its assessment of market and resource conditions closer to the date of the sale.

Information Requested for the Draft Proposed Program

We request all interested and affected parties to comment on the size, timing, and location of leasing and the procedures for assuring fair market value that are proposed in the Draft Proposed 5-Year OCS Oil and Gas Leasing Program for 2010-2015. Respondents who submitted information in response to the August 1, 2008 Federal Register notice requesting comments on preparing the 5-year program for 2010-2015, may wish to reference that information, as appropriate, rather than repeating it in their comments on the DPP. We also invite comments and suggestions on how to proceed with the section 18 analysis for the next draft of the new program, the proposed program.

Section 18(g) authorizes confidential treatment of privileged or proprietary information that is submitted. In order to protect the confidentiality of such information, respondents should include it as an attachment to other comments submitted and mark it appropriately. On request, the MMS will treat such information as confidential from the time of its receipt until 5 years after approval of the new leasing program, subject to the requirements of the Freedom of Information Act.

The MMS will not treat as confidential any aggregate summaries of such information, the names of respondents, and comments not containing such information.

Environmental Impact Statement (EIS) Preparation

Pursuant to section 102(2)(C) of NEPA, the MMS intends to prepare an EIS for the new 5-year OCS oil and gas leasing program for 2010-2015. This notice starts the formal scoping process for the EIS under 40 CFR 1501.7, and solicits information regarding issues and alternatives that should be evaluated in the EIS. The EIS will analyze the potential impacts of the adoption of the proposed 5-year program.

The comments that MMS has received in response to the August 2008, Request for Comments, and the comments received during scoping for the 2007-2012 5-Year EIS have identified environmental issues and concerns that MMS will consider in the EIS. In summary, these include climate change as an impact factor in cumulative analyses, the effects of the OCS program on climate change, potential impacts from accidental oil spills, potential impacts to tourism and recreation activities, and ecological impacts from potential degradation of marine and coastal habitats. Additionally alternatives will be developed and analyzed during the EIS process based on scoping comments and governmental communications. Alternatives may include increasing or decreasing the number or frequency of sales, coastal buffers, limiting areas available for leasing, and excluding parts of or entire planning areas. Additional issues and alternatives will be addressed as a result of the request for supplemental information from stakeholders asked to respond to the four questions in the Notice above that specifically request comments on buffer zones, including the criteria that should be used to set them and whether they should be uniformly across the nation, and on whether certain areas and subareas should be excluded because of particular environmental sensitivity or because of a preferred alternative use (e.g., alternative energy), broader revenue sharing policies, and potential mandatory unitization in certain areas.

Written Scoping Comments for the EIS

The MMS will consider comments for the purposes of determining the scope of the EIS we plan to prepare. Comments on the relationship between the Oil and Gas Program and the Alternative Energy Program are also welcome. Interested parties may submit their written scoping comments until March 23, 2009 to Mr. J.F. Bennett, Chief, Branch of Environmental Assessment, Minerals Management Service, 381 Elden Street, MS 4042, Herndon, Virginia 20170, or online at http://www.regulations.gov. Under the tab “More Search Options,” click “Advanced Docket Search,” then select “Minerals Management Service” from the agency drop-down menu, then click the submit button. In the Docket ID column, select MMS-2008-OMM-0046 to submit public comments and to view related materials available for this Notice. Information on using Regulations.gov, including instructions for accessing documents, submitting comments, and viewing the docket after the close of the comment period, is available through the site's “User Tips” link.

Our practice is to make comments, including names and addresses of respondents available for public review. Individual commenters may ask that we withhold their name, home address, or both from the public record, and we will try to honor such a request to the extent allowable by law. If you submit comments and wish us to withhold such information, you must state so prominently at the beginning of your submission. We will not consider anonymous comments, and we will make available for inspection in their entirety all comments submitted by organizations or businesses or by individuals identifying themselves as representatives of organizations or businesses.

Scoping Meetings

Meetings will be held between now and March 23, 2009 to receive scoping comments on the EIS. Several meetings will be scheduled to take advantage of existing venues for other MMS meetings. In Alaska the following public hearings on the Beaufort Sea and Chukchi Sea Planning Areas Multisale DEIS are also expected to take scoping comments for the 5-year EIS. We have specifics on three locations as follows:

• Kaktovik, Alaska: Public Hearing from 7-10 p.m., Tuesday, February 3, Kaktovik Community Center;

• Nuiqsut, Alaska: Public Hearing from 7-10 p.m., Wednesday, February 4, Kisik Community Center; and,

• Barrow, Alaska: Public Hearing from 7-10 p.m., Friday, February 6, Inupiat Heritage Center.

Additional public scoping meetings for the 5-year EIS are being planned for, but are not necessarily limited to the following cities:

• Anchorage, Alaska;

• Wainwright, Alaska;

• Point Lay, Alaska;

• Point Hope, Alaska;

• Dillingham, Alaska;

• Naknek/King Salmon, Alaska;

• Sand Point, Alaska;

• Nelson Lagoon, Alaska;

• Cold Bay, Alaska;

• King Cove, Alaska;

• Unalaska/Dutch Harbor, Alaska;

• Seattle, Washington;

• Ft. Bragg/Ukiah, California;

• Oceanside/San Diego, California;

• Santa Maria/Santa Barbara, California;

• Houston, Texas;

• New Orleans, Louisiana;

• Mobile, Alabama;

• Tallahassee, Florida;

• Tampa/St. Petersburg, Florida;

• Savannah, Georgia;

• Wilmington, North Carolina;

• Norfolk, Virginia;

• New York, New York/Atlantic City, New Jersey;

• Boston, Massachusetts; and

• Washington, DC.

Specific times and venues will be posted on the MMS Web site and published in the Federal Register per 40 CFR 1506.6.

Cooperating Agency

The Department of the Interior invites other Federal agencies, state, tribal, and local governments to consider becoming cooperating agencies in the preparation of the EIS. We invite qualified government entities to inquire about cooperating agency status for the EIS for the proposed 5-year program. Using the guidelines from the Council on Environmental Quality (CEQ), qualified agencies and governments are those with “jurisdiction by law or special expertise.” Potential cooperating agencies should consider their authority and capacity to assume the responsibilities of a cooperating agency and to remember that an agency's role in the environmental analysis neither enlarges nor diminishes the final decision making authority of any other agency involved in the NEPA process. Agencies should also consider the “Factors for determining Cooperating Agency Status” in Attachment 1 to CEQ's January 30, 2002, Memorandum for the Heads of Federal Agencies: Cooperating Agencies in Implementing the Procedural Requirements of the National Environmental Policy Act. The appropriate pages can be found at: http://ceq.hss.doe.gov/nepa/regs/cooperating/cooperatingagenciesmemorandum.html and http://ceq.hss.doe.gov/nepa/regs/cooperating/cooperatingagencymemofactors.html.

The MMS, as the lead agency, will not provide financial assistance to cooperating agencies. Even if an organization is not a cooperating agency, opportunities will exist to provide information and comments to MMS during the normal public input phases of the NEPA/EIS process. MMS will also consult with tribal governments on a government-to-government basis. If further information about cooperating agencies is needed, please contact Mr. James F. Bennett, at (703) 787-1660.

Next Steps in the Process

The MMS plans to issue the proposed program and draft EIS in mid-summer 2009 for a 90-day comment period. We plan to issue the proposed final program and final EIS in spring 2010. The Secretary may approve the new 5-year program 60 days later to go into effect as of July 1, 2010.

Dated: January 8, 2009.
Randall B. Luthi,
Director, Minerals Management Service.

[FR Doc. E9-1062 Filed 1-16-09; 8:45 am]

BILLING CODE 4310-MR-P